DEPARTMENT OF COMMERCE

Foreign-Trade Zones Board

[B-55-2017]

Foreign-Trade Zone 38—Spartanburg County, South Carolina; Application for Expansion of Subzone 38A; BMW Manufacturing Company, LLC; Duncan, South Carolina

An application has been submitted to the Foreign-Trade Zones (FTZ) Board by the South Carolina State Ports Authority, grantee of FTZ 38, requesting an expansion of Subzone 38A on behalf of BMW Manufacturing Company, LLC, to include a site in Duncan, South Carolina. The application was submitted pursuant to the provisions of the Foreign-Trade Zones Act, as amended (19 U.S.C. 81a-81u), and the regulations of the FTZ Board (15 CFR part 400). It was formally docketed on August 16, 2017.

The applicant is requesting authority to expand Subzone 38A to include an additional site: Site 10 (10.68 acres)—1181 Howell Road, Duncan, Spartanburg County. No additional authorization for production activity has been requested at this time.

In accordance with the FTZ Board's regulations, Qahira El-Amin of the FTZ Staff is designated examiner to review the application and make recommendations to the FTZ Board.

Public comment is invited from interested parties. Submissions shall be addressed to the FTZ Board's Executive Secretary at the address below. The closing period for their receipt is October 2, 2017. Rebuttal comments in response to material submitted during the foregoing period may be submitted during the subsequent 15-day period to October 16, 2017.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Qahira El-Amin at Qahira.El-Amin@trade.gov or (202) 482-5928.

Dated: August 16, 2017.
Andrew McGilvray,
Executive Secretary.

[FR Doc. 2017-17698 Filed 8-21-17; 8:45 am]

BILLING CODE 3510-DS-P